DEPARTMENT OF LABOR

Employment and Training Administration

20 CFR Part 645

RIN 1205-AB15

Welfare-to-Work (WtW) Grants: Delay of Effective Date and Comment Date

AGENCY: Employment and Training Administration (ETA), DOL.

ACTION: Final rule, interim final rule; delay of effective date and comment date.

SUMMARY: In accordance with the memorandum of January 20, 2001, from the Assistant to the President and Chief of Staff, entitled “Regulatory Review Plan,” published in the Federal Register on January 24, 2001, this action temporarily delays for 60 days the effective date of the rule entitled “Welfare-to-Work (WtW) Grants,” published in the Federal Register on January 11, 2001 (66 FR 2690). That rule contains a Final Rule implementing the Welfare-to-Work (WtW) grant provisions of Title IV, Part A of the Social Security Act initiated by the publication of the Interim Final Rule (IFR1) on November 18, 1997. It also contains a new Interim Final Rule (IFR2) implementing the Welfare-to-Work and Child Support Amendments of 1999 (1999 Amendments).

DATES: Effective Date. The effective date of the “Welfare-to-Work (WtW) Grants” amendments (Final Rule and IFR2), amending 20 CFR part 645, published in the Federal Register on January 11, 2001, at 66 FR 2690, is delayed for 60 days, from February 12, 2001, to a new effective date of April 13, 2001.

Comment Date. The Department is extending the date for receipt of comments on the IFR2, implementing the1999 Amendments, by 30 days from March 12, 2001, the date published in the Federal Register on January 11, 2001 at 66 FR 2690, to a new date of April 11, 2001. This will allow the public additional time to submit comments on those changes that are the result of the 1999 Amendments.

FOR FURTHER INFORMATION CONTACT: Mr. Dennis Lieberman, Division of Welfare-to-Work, U.S. Department of Labor, 200 Constitution Avenue, NW., Room N-4671, Washington, DC 20210. Telephone: (202) 693-3910 (voice) (this is not a toll-free number) or 1-800-326-2577 (TDD).

SUPPLEMENTARY INFORMATION: To the extent that 5 U.S.C. 553 applies to this action, it is exempt from notice and comment because it constitutes a rule of procedure under 5 U.S.C. 553(b)(A). Alternatively, the Department's implementation of this rule without opportunity for public comment, effective immediately upon publication today in the Federal Register, is based on the good cause exceptions in 5 U.S.C. 553(b)(B) and 553(d)(3), in that seeking public comment is impracticable, unnecessary and contrary to the public interest. The temporary 60-day delay in effective date is necessary to give Department officials the opportunity for further review and consideration of new regulations, consistent with the Assistant to the President's memorandum of January 20, 2001. Given the imminence of the effective date, seeking prior public comment on this temporary delay would have been impractical, as well as contrary to the public interest in the orderly promulgation and implementation of regulations.

Signed at Washington, DC, this 7th day of February, 2001.
Raymond J. Uhalde,
Deputy Assistant Secretary, Employment and Training Administration.

[FR Doc. 01-3515 Filed 2-9-01; 8:45 am]

BILLING CODE 4510-30-P